DEPARTMENT OF AGRICULTURE

Animal and Plant Health Inspection Service

[Docket No. APHIS-2008-0129]

Public Meetings; National Tuberculosis Program Listening Sessions

AGENCY: Animal and Plant Health Inspection Service, USDA.

ACTION: Notice of public meetings.

SUMMARY: We are advising the public that the Animal and Plant Health Inspection Service will host a series of public meetings to provide the public with an opportunity to offer comments regarding current challenges and new approaches for future tuberculosis control methods and eradication in view of budgetary constraints.

DATES: The public meetings will be held in Michigan on December 8, 2008; in Minnesota on December 10, 2008; in Texas on December 11, 2008; in California on December 12, 2008; and in Washington, DC, on December 16, 2008. The public meetings will be held from 8 a.m. to 4:30 p.m., local time. Meeting registration will be from 7 a.m. to 8 a.m. prior to each public meeting.

ADDRESSES: The public meetings will be held at the following locations:

• Michigan: Holiday Inn South Convention Center, 6820 South Cedar Street, Lansing, MI 48911;

• Minnesota: Hilton Minneapolis, 1001 Marquette Avenue South, Minneapolis, MN 55403;

• Texas: Hilton Garden Inn Austin Downtown, 500 North I H 35, Austin, TX 78701;

• California: Sheraton Grand Sacramento Hotel, 1230 J Street, Sacramento, CA 95814; and

• Washington, DC: Washington Marriott at Metro Center, 775 12th Street NW, Washington, DC 20005.

FOR FURTHER INFORMATION CONTACT: Dr. Alecia L. Naugle, Program Manager, National Tuberculosis Program, VS, APHIS, 4700 River Road Unit 43, Riverdale, MD, 20737; (301) 734-6954.

SUPPLEMENTARY INFORMATION: The Animal and Plant Health Inspection Service (APHIS) is announcing a series of meetings to discuss its National Tuberculosis (TB) Program. The meetings are designed to assemble a wide range of producers and other stakeholders to discuss current challenges and potential new approaches for TB control and eradication in view of budgetary constraints. The meetings will be held in various geographical locations to facilitate attendance. Participants will have the opportunity to pose questions and offer written and oral comments. Tentative topics and questions for discussion at the upcoming meetings include:

1. Regulatory Framework. What is the role of State statuses in the National TB Program of the future? Are there other approaches to establishing movement restrictions and testing requirements that more effectively reduce the risk(s) of disease transmission from affected herds?

2. Wildlife Issues. How should the risk of TB associated with disease transmission in wildlife be mitigated?

3. Biosecurity Issues. How could producers be encouraged to adopt management and biosecurity practices that reduce the risk of transmission of TB and how could the National TB Program facilitate producers' adoption of these practices?

4. Budget Concerns. What alternatives exist for funding National TB Program activities?

5. Future of Indemnities. How should limited indemnity funds be used to reduce the risk of continued disease transmission in affected herds?

6. Import Issues. How should the risk of transmission of bovine tuberculosis associated with the importation of live cattle into the United States be mitigated?

7. Eradication vs. Control. Is eradication of TB in domestic livestock feasible or is control a more appropriate program objective given the availability of program funding?

A list of discussion topics, questions, and meeting details is also available via the APHIS Web site at: http://www.aphis.usda.gov/newsroom/hot_issuesa/bovine_tuberculosis/ bovine_tb.shtml.

If you require special accommodations, such as a sign language interpreter, please see the contact the person listed under FOR FURTHER INFORMATION CONTACT.

Done in Washington, DC, this 14th day of November 2008.
Kevin Shea,
Acting Administrator, Animal and Plant Health Inspection Service.

[FR Doc. E8-27620 Filed 11-19-08; 8:45 am]

BILLING CODE 3410-34-P